DEPARTMENT OF THE INTERIOR

2 CFR Chapter XIV

25 CFR Chapters I, II, III, V, VI, and VII

30 CFR Chapters II, IV, VII, and XII

36 CFR Chapter I

41 CFR Chapter 114

43 CFR Subtitle A and Chapters I and II

48 CFR Chapter 14

50 CFR Chapters I and IV

[Docket Number; DOI-2011-0001]

Reducing Regulatory Burden; Retrospective Review Under E.O. 13563

AGENCY: Office of the Secretary, Interior.

ACTION: Notice of Availability, request for comment.

SUMMARY: The Department of the Interior (DOI) is requesting public comment on its plan to review its significant regulations in response to the President's Executive Order 13563 on Improving Regulation and Regulatory Review. DOI will consider public comments in preparing the final plan for retrospective regulatory review. The purpose of this plan is to help DOI manage the Nation's public lands and national treasures, honor our tribal trust obligations, protect the environment and endangered species, distribute and monitor water resources, and help America become energy independent in ways that are more effective and less burdensome.

DATES: You must submit any comments on or before August 10, 2011.

ADDRESSES: All comments must include “Comments on DOI's Plan for Retrospective Regulatory Review—Docket Number DOI-2011-0001”. You must submit comments by any of the following methods:

• Federal eRulemaking portal: Go to http://www.regulations.gov, find Docket DOI-2011-0001, and follow the instructions for submitting your comments electronically.

• Mail: Regulatory Review, Office of the Executive Secretariat and Regulatory Affairs, Department of the Interior, 1849 C Street, NW., Mail Stop 7328, Washington, DC 20240.

• Hand Delivery or Courier: Regulatory Review, Office of the Executive Secretariat and Regulatory Affairs, Department of the Interior, Room 7311, 1849 C Street, NW., Washington, DC 20240.

• Fax: (202) 219-2100.

FOR FURTHER INFORMATION CONTACT: Mark Lawyer, Office of the Secretary, 202-208-3181, Mark_Lawyer@ios.doi.gov.

SUPPLEMENTARY INFORMATION: DOI published a notice on February 25, 2011, asking the public for ideas and information as it prepared a preliminary plan for retrospective regulatory review to comply with President Obama's Executive Order 13563, “Improving Regulation and Regulatory Review.” DOI received helpful information in response to this request, which it considered in preparing the preliminary plan. DOI published a preliminary plan on May 18, 2011. DOI is now finalizing the plan. The preliminary plan is available on DOI's Open Government Web site at: http://www.doi.gov/open/regsreview/. This Web site provides links to the plan, the Department's regulations, and an e-mail in-box at RegsReview@ios.doi.gov that interested parties may use to suggest, on an ongoing basis, improvements to DOI's regulations.

Questions for the Public

DOI specifically asks the public to provide comments related to the questions that follow to help the Department finalize the plan to review its significant regulations.

(1) DOI seeks to establish a culture of retrospective review that will produce regulations that accomplish the Department's mission in a way that works best for the American public. Are there any changes to DOI's plan for retrospective regulatory review that would further this goal? DOI encourages those submitting comments to include specific ideas that would improve DOI's process for systematically reviewing its regulations.

(2) DOI has proposed specific rules to review over the next two years. Are there other rules that could benefit from retrospective review in the near future? If so, please specifically identify the rules and suggest ways DOI can streamline, consolidate, or make these regulations work better. Please suggest specific language that would make these rules or guidance more efficient and less burdensome where possible.

(3) Are there ways DOI can better scale its regulations to lessen the burdens imposed on small entities within the existing statutory requirements? Please identify any specific regulations that, under the applicable laws, could exempt small entities or provide more flexible or less burdensome requirements.

(4) Are DOI regulations and guidance written in language that is clear and easy to understand? Please identify specific regulations and guidance that are good candidates for a plain language re-write.

(5) What are some suggestions that DOI can use to assure that its regulations promote its mission in ways that are most efficient and least burdensome?

The Department is issuing this request solely to seek useful information as it finalizes its plan to review its existing significant regulations. While responses to this request do not bind DOI to any further actions related to the response, all submissions will be made available to the public on http://www.regulations.gov.

Before including your address, or other personal identifying information in your comment, you should be aware that your entire comment—including your personal identifying information—may be made publicly available at any time. While you can ask us in your comment to withhold your personal identifying information from the public review, we cannot guarantee that we will be able to do so.

Authority: E.O. 13653, 76 FR 3821, Jan. 21, 2011; E.O. 12866, 58 FR 51735, Oct. 4, 1993.

David J. Hayes,
Deputy Secretary.

[FR Doc. 2011-17295 Filed 7-8-11; 8:45 am]

BILLING CODE 4310-10-P